DEPARTMENT OF THE INTERIOR

Bureau of Land Management

[LNM9300000 L12200000 XX0000]

Renewal of Approved Information Collection

AGENCY: Bureau of Land Management, Interior.

ACTION: 60-Day Notice and Request for Comments.

SUMMARY: In compliance with the Paperwork Reduction Act, the Bureau of Land Management (BLM) invites public comments on, and plans to request approval to continue, the collection of information that is necessary to implement two provisions of the Federal Cave Resources Protection Act—one which requires Federal agencies to consult with interested parties to develop a listing of significant caves, and another under which Federal and State governmental agencies and bona fide educational and research institutions may request confidential information regarding significant caves. The Office of Management and Budget (OMB) has assigned control number 1004-0165 to this information collection.

DATES: Submit comments on the proposed information collection by August 17, 2012.

ADDRESSES: Comments may be submitted by mail, fax, or electronic mail. Mail: U.S. Department of the Interior, Bureau of Land Management, 1849 C Street NW., Room 2134LM, Attention: Jean Sonneman, Washington, DC 20240. Fax: to Jean Sonneman at 202-245-0050.

Electronic mail: Jean_Sonneman@blm.gov.

Please indicate “Attn: 1004-0165” regardless of the form of your comments.

FOR FURTHER INFORMATION CONTACT: James Goodbar, at 575-234-5929. Persons who use a telecommunication device for the deaf (TDD) may call the Federal Information Relay Service (FIRS) at 1-800-877-8339, to leave a message for Mr. Goodbar.

SUPPLEMENTARY INFORMATION: OMB regulations at 5 CFR 1320, which implement provisions of the Paperwork Reduction Act, 44 U.S.C. 3501-3521, require that interested members of the public and affected agencies be given an opportunity to comment on information collection and recordkeeping activities (see 5 CFR 1320.8(d) and 1320.12(a)). This notice identifies an information collection that the BLM plans to submit to OMB for approval. The Paperwork Reduction Act provides that an agency may not conduct or sponsor a collection of information unless it displays a currently valid OMB control number. Until OMB approves a collection of information, you are not obligated to respond.

The BLM will request a 3-year term of approval for this information collection activity. Comments are invited on: (1) The need for the collection of information for the performance of the functions of the agency; (2) the accuracy of the agency's burden estimates; (3) ways to enhance the quality, utility and clarity of the information collection; and (4) ways to minimize the information collection burden on respondents, such as use of automated means of collection of the information. A summary of the public comments will accompany our submission of the information collection requests to OMB.

The following information is provided for the information collection:

Title: Cave Management: Cave Nominations and Confidential Information (43 CFR Part 37).

Forms: None.

OMB Control Number: 1004-0165.

Abstract: The information covered in this Information Collection Request applies to caves on Federal lands administered by the Bureau of Land Management (BLM), National Park Service, U.S. Fish and Wildlife Service, and Bureau of Reclamation. The BLM collects information from appropriate private sector interests, including “cavers,” in order to update a list of significant caves that are under the jurisdiction of the agencies listed above. The BLM also processes requests for confidential information regarding significant caves. The information collected enables the BLM to comply with the Federal Cave Resources Protection Act (16 U.S.C. 4301-4310).

Frequency of Collection: On occasion.

Estimated Number and Description of Respondents: 100 individuals and households.

Estimated Reporting and Recordkeeping “Hour” Burden: 1090 hours.

Estimated Reporting and Recordkeeping “Non-Hour Cost” Burden: None.

The following table details the individual components and respective hour burdens of this information collection request:

A. Type of response | B. Number of responses | C. Time per response | D. Total hours (B × C)
Cave Nomination | 90 | 12 | 1,080
Request for Confidential Cave Information | 10 | 1 | 10
Totals | 100 |  | 1,090

Before including your address, phone number, email address, or other person identifying information in your comment, you should be aware that your entire comment—including your person identifying information—may be made publicly available at any time. While you can ask us in your comment to withhold your personal identifying information from public review, we cannot guarantee that we will be able to do so.

Jean Sonneman,
Bureau of Land Management, Information Collection Clearance Officer.

[FR Doc. 2012-14675 Filed 6-15-12; 8:45 am]

BILLING CODE 4310-84-P